DEPARTMENT OF STATE

[Delegation of Authority No. 122-7]

Delegation by the Deputy Secretary of State to the Assistant Secretary of State for Oceans and International Environmental and Scientific Affairs of Authorities Related to Appointment of Yukon River Salmon Panel Members

By virtue of the authority vested in the Secretary of State, including section 1 of the State Department Basic Authorities Act, as amended (22 U.S.C. 2651a), and delegated to the Deputy Secretary of State pursuant to Delegation of Authority 245 of April 23, 2001, I hereby delegate to the Assistant Secretary of State for Oceans and International Environmental and Scientific Affairs the functions vested in the Secretary of State by section 202 of the Yukon River Salmon Act of 2000 (16 U.S.C. 5721), regarding the appointment of panel members and alternate panel members.

Any function covered by this delegation may also be exercised by the Secretary of State or the Deputy Secretary of State.

This delegation shall be published in the Federal Register.

Dated: August 6, 2007.
John D. Negroponte,
Deputy Secretary of State, Department of State.

[FR Doc. E7-18094 Filed 9-12-07; 8:45 am]

BILLING CODE 4710-10-P